DEPARTMENT OF ENERGY

Federal Energy Regulatory Commission

Combined Notice of Filings

Take notice that the Commission has received the following Natural Gas Pipeline Rate and Refund Report filings:

Filings Instituting Proceedings

Docket Numbers: RP24-837-000.

Applicants: High Island Offshore System, L.L.C.

Description: 4(d) Rate Filing: Minor Housekeeping—Update Contacts' Information to be effective 7/24/2024.

Filed Date: 6/24/24.

Accession Number: 20240624-5048.

Comment Date: 5 p.m. ET 7/8/24.

Docket Numbers: RP24-838-000.

Applicants: Iroquois Gas Transmission System, L.P.

Description: 4(d) Rate Filing: 6.24.24 Negotiated Rates—Emera Energy Services, Inc. R-2715-86 to be effective 7/1/2024.

Filed Date: 6/24/24.

Accession Number: 20240624-5059.

Comment Date: 5 p.m. ET 7/8/24.

Docket Numbers: RP24-839-000.

Applicants: Iroquois Gas Transmission System, L.P.

Description: 4(d) Rate Filing: 6.24.24 Negotiated Rates—Emera Energy Services, Inc. R-2715-87 to be effective 7/1/2024.

Filed Date: 6/24/24.

Accession Number: 20240624-5061.

Comment Date: 5 p.m. ET 7/8/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 24, 2024.
Debbie-Anne A. Reese,
Acting Secretary.

[FR Doc. 2024-14394 Filed 6-28-24; 8:45 am]

BILLING CODE 6717-01-P